ENVIRONMENTAL PROTECTION AGENCY

[ER-FRL-9031-3]

Environmental Impact Statements; Notice of Availability

Responsible Agency: Office of Federal Activities, General Information (202) 564-7146 or http://www.epa.gov/nepa.

Weekly receipt of Environmental Impact Statements (EISs)

Filed 01/02/2017 Through 01/06/2017

Pursuant to 40 CFR 1506.9.

Notice: Section 309(a) of the Clean Air Act requires that EPA make public its comments on EISs issued by other Federal agencies. EPA's comment letters on EISs are available at: http://www.epa.gov/compliance/nepa/eisdata.html.

EIS No. 20170000, Draft, NOAA, CA, Calam Monterey Peninsula Water Supply Project, Comment Period Ends: 02/27/2017, Contact: Karen Grimmer 831-647-4253.

EIS No. 20170001, Draft, USFS, MT, South Gravelly Allotment Management Plans, Comment Period Ends: 02/27/2017, Contact: Jake Stewart 406-682-4253.

EIS No. 20170002, Draft, DOE, CA, Remediation of Area IV and the Northern Buffer Zone of the Santa Susana Field Laboratory, Comment Period Ends: 03/14/2017, Contact: Stephie Jennings 1-805-842-3864.

EIS No. 20170003, Draft Supplement, FHWA, DE, US 113 North South Study Millsboro South Area, Comment Period Ends: 02/27/2017, Contact: Nick Blendy 302-734-2966.

EIS No. 20170004, Draft, USFWS, NPS, WA, North Cascades Ecosystem Draft Grizzly Bear Restoration Plan, Comment Period Ends: 03/14/2017, Contact: Karen Taylor-Goodrich 360-854-7205.

The U.S. Department of Interior's National Park Service and the U.S. Fish and Wildlife Service are joint lead agencies for the above project.

EIS No. 20170005, Draft, BR, NM, Pojoaque Basin Regional Water System, Comment Period Ends: 02/27/2017, Contact: Lawrence Moore 505-462-3702.

EIS No. 20170006, Final, USFS, BLM, UT, Transwest Express Powerline (TWE), Review Period Ends: 02/27/2017, Contact: Charles Call 435-691-0768.

EIS No. 20170007, Final, NPS, UT, Glen Canyon National Recreation Area Off-Road Vehicle Management Plan, Review Period Ends: 02/13/2017, Contact: Lindsay Gillham 303-969-2085.

EIS No. 20170008, Final, BLM, USFS, UT, Energy Gateway South Powerline (EGS), Review Period Ends: 02/27/2017, Contact: Kenton Call 435-691-0768.

EIS No. 20170009, Draft Supplement, NOAA, AK, Management of the Subsistence Harvest of Northern Fur Seals on St. Paul Island, Alaska, Comment Period Ends: 02/27/2017, Contact: Michael Williams 907-271-5117.

EIS No. 20170010, Final, USFS, ID, Lookout Pass Ski Area Expansion EIS, Review Period Ends: 02/27/2017, Contact: Shoshana Cooper 208-765-7211.

Amended Notices

EIS No. 20160298, Draft, USFS, MT, Ten Lakes Travel Management Project, Comment Period Ends: 02/14/2017, Contact: Bryan Donner 406-296-2536.

Revision to FR Notice Published 12/16/2016; Extending Comment Period from 1/30/2017 to 2/14/2017.

EIS No. 20160321, Draft Supplement, FTA, CA, BART Silicon Valley Phase II Extension Project, Comment Period Ends: 02/21/2017, Contact: Mary Nguyen 213-202-3960.

Revision to FR Notice Published 01/06/2017; Correction to Comment Period Ends 02/21/2017.

EIS No. 20160328, Draft Supplement, USACE, LA, Mississippi River, Baton Rouge to the Gulf of Mexico Mississippi River-Gulf Outlet, Louisiana, New Industrial Canal Lock and Connecting Channels Project, Comment Period Ends: 02/21/2017, Contact: Mark Lahare 504-862-1344.

Revision to FR Notice Published 01/06/2017; Correction to Comment Period Ends 02/21/2017.

Dated: January 10, 2017.
Dawn Roberts,
Management Analyst, NEPA Compliance Division, Office of Federal Activities.

[FR Doc. 2017-00716 Filed 1-12-17; 8:45 am]

BILLING CODE 6560-50-P